DEPARTMENT OF ENERGY

Federal Energy Regulatory Commission

[Project No. 176-018]

City of Escondido and Vista Irrigation District; Notice of Technical Conference and Site Visit for Escondido Hydroelectric Project

March 5, 2009.

Technical Conference

On December 15, 2008, The City of Escondido and Vista Irrigation (co-applicants) filed an updated application to relicense the 1.8-MW Escondido Hydroelectric Project.

FERC staff will conduct two technical conferences for the purposes of gathering information and answering questions regarding the Escondido Project's Settlement Agreement and Updated License Application. The meetings will focus on obtaining public and agency input and requesting clarification from the applicants regarding the filed documents. All interested individuals, organizations, and agencies with environmental expertise and concerns are invited to attend one or both of the meetings and to assist the staff in defining and clarifying the issues related to the Escondido Hydroelectric Project licensing proceeding.

A. Date, Time, and Location:

Morning Meeting

Date: Tuesday, March 31, 2009.

Time: 9 a.m. (PST).

Place: Civic Center Plaza, Mitchell Room.

Address: 210 North Broadway, Escondido, CA 92025.

Evening Meeting

Date: Tuesday, March 31, 2009.

Time: 7 p.m. (PST).

Place: Civic Center Plaza, Mitchell Room.

Address: 210 North Broadway, Escondido, CA 92025.

B. Directions to the Mitchell Room, Escondido City Hall: From San Diego, take Interstate 15 north to Hwy 78 east; From Los Angeles, take Interstate 5 south to Hwy 78 east, past Interstate 15; From Ontario/Riverside, take Interstate 15 south to Hwy 78 east; Then, turn right (south) on North Broadway, right again (west) on Valley Parkway (a one-way street), and park in the first or second public lot on the right (the second lot is referred to as the Art Center parking lot). A permit will be issued in the Mitchell Room for you to put on your dashboard that will allow you to exceed the posted parking time limit for either of these two lots. If these lots are both full, proceed west on Valley Parkway and make a right turn (north) on Escondido Blvd. Pass the Performing Arts Center (Lyric Theatre) and the flood control channel and turn right into the Woodward Avenue parking lot.

C. FERC Contact: Emily Carter, emily.carter@ferc.gov, 202-502-6512.

D. Purpose of Meeting: FERC staff will conduct two technical conferences for the purposes of gathering information and answering questions regarding the Escondido Hydroelectric Project's Settlement Agreement and Updated License Application. The meetings will focus on obtaining public and agency input and requesting clarification from the applicant's regarding the filed documents. All interested individuals, organizations, and agencies with environmental expertise and concerns are invited to attend one or both of the meetings and to assist the staff in defining and clarifying the issues related to the Escondido Hydroelectric Project licensing proceeding.

The meetings will be recorded by a stenographer and become part of the formal record of the Commission proceeding on the project.

Site Visit

FERC staff, along with the applicants, will conduct a project site visit beginning at 8:45 a.m. on April 1, 2009. All interested individuals, organizations, and agencies are invited to attend. All participants should meet at the Escondido Civic Center Plaza in the Mitchell Room. All participants are responsible for their own transportation to the site, but car pooling is encouraged as much as possible. Please be aware that several of the facilities on this tour are accessed via rough dirt roads. Vehicles must be suitable for off-road use and four-wheel drive is recommended (and may be required in wet weather). Please bring water and wear suitable field attire and footwear.

Date: Wednesday, April 1, 2009.

Time: 8:45 a.m. (PST).

Place: Civic Center Plaza, Mitchell Room.

Address: 210 North Broadway, Escondido, CA 92025.

Kimberly D. Bose,
Secretary.

[FR Doc. E9-5261 Filed 3-11-09; 8:45 am]

BILLING CODE 6717-01-P